DEPARTMENT OF THE INTERIOR

Fish and Wildlife Service

Aquatic Nuisance Species Task Force Meeting and Communication, Education and Outreach Committee Meeting

AGENCY: Fish and Wildlife Service, Interior.

ACTION: Notice of meetings.

SUMMARY: This notice announces a field trip and meeting of the Aquatic Nuisance Species (ANS) Task Force and a meeting of the Communication, Education and Outreach Committee of the ANS Task Force. The focus of the field trip and meeting topics are identified in the SUPPLEMENTARY INFORMATION.

DATES: The field trip will take place from 12 p.m. to 6 p.m., Monday, July 31, 2000. The Aquatic Nuisance Species Task Force will meet from 8:30 a.m. to 5 p.m., Tuesday, August 1, 2000 and 8:30 a.m. to 12 p.m., Wednesday, August 2, 2000. The Communication, Education and Outreach Committee will meet from 1:30 p.m. to 4 p.m. on Wednesday, August 2, 2000.

ADDRESSES: The field trip will begin at the Radisson Hotel, 60 Battery Street, Burlington, Vermont. The ANS Task Force meeting will be held at the University of Vermont, Rowell Hall, Room 103, Burlington, Vermont. The Communication, Education, and Outreach Committee meeting will be held at the Lake Champlain Basin Science Center (across from the Radisson Hotel), Burlington, Vermont.

FOR FURTHER INFORMATION CONTACT: Sharon Gross, Executive Secretary, Aquatic Nuisance Species Task Force at 703-358-2308 or by e-mail at: sharon_gross@fws.gov or Joe Starinchak, Outreach Coordinator, at 703-358-2018 or by e-mail at: joe_starinchak@fws.gov.

SUPPLEMENTARY INFORMATION: Pursuant to section 10(a)(2) of the Federal Advisory Committee Act (5 U.S.C. App. I), this notice announces a field trip and meeting of the Aquatic Nuisance Species Task Force and the Communication, Education and Outreach Committee. The Task Force was established by the Nonindigenous Aquatic Nuisance Prevention and Control Act of 1990.

The field trip will consist of a boat tour to view the water chestnut problem and some of the control and harvesting operations in Lake Champlain, and description of some of the lake's invasive fish species. Topics to be covered during the ANS Task Force meeting on Tuesday and Wednesday include: briefings about regional nonindigenous species problems and initiatives; updates of activities from the Task Force's regional panels; a discussion of the Coast Guard's ballast water management program; a discussion of the Asian Swamp Eel initiatives; a discussion about the recent Caulerpa taxifolia invasions in Southern California and the activities of the Caulerpa taxifolia Prevention Committee; an overview of the activities of the Invasive Species Council; a discussion of the relationship of the Regional Panels with the ANS Task Force; and other topics. Topics to be covered during the Communications, Education and Outreach Committee include: Review of committee membership and roles and responsibilities; review of ANS Task Force coordination issues such as linkages with other committees and reporting relationships; review of the Act and committee charge; and discussion of products.

Minutes of the meeting will be maintained by the Executive Secretary, Aquatic Nuisance Species Task Force, Suite 851, 4401 North Fairfax Drive, Arlington, Virginia 22203-1622, and will be available for public inspection during regular business hours, Monday through Friday.

Dated: July 13, 2000.
Everett Wilson,
Acting Co-Chair, Aquatic Nuisance Species Task Force, Acting Assistant Director—Fisheries.

[FR Doc. 00-18085 Filed 7-17-00; 8:45 am]

BILLING CODE 4310-55-M